DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | *Elevation in feet (NGVD) +Elevation in feet (NAVD) #Depth in feet above ground Modified
City of Sturgis, South Dakota
FEMA Docket No.: B-7749
South Dakota | City of Sturgis | Bear Butte Creek | At eastern corporate limits | *3339
|  |  | Approximately 3,400 feet upstream of DM&E railroad | *3566
South Dakota | City of Sturgis | Cook Canyon | Just downstream of DM&E railroad | *3446
|  |  | Just downstream of Interstate 90 | *3480
South Dakota | City of Sturgis | Deadman Gulch | Approximately 200 feet downstream of Interstate 90 | *3528
|  |  | At Elk Road | *3600
South Dakota | City of Sturgis | Dolan Creek | At confluence with Bear Butte Creek | *3378
|  |  | Approximately 200 feet upstream of Dolan Creek Road | *3570
South Dakota | City of Sturgis | East Vanocker Creek | At confluence with Vanocker Creek, downstream of Otter Road | *3529
|  |  | Just downstream of DM&E railroad | *3554
South Dakota | City of Sturgis | South Dolan Creek | At confluence with Dolan Creek just upstream of Interstate 90 | *3503
|  |  | At southern corporate limits | *3570
South Dakota | City of Sturgis | Vanocker Creek | At confluence with Vanocker Creek | *3458
|  |  | At Vanocker Road | *3595
South Dakota | City of Sturgis | West Vanocker Creek | At confluence with Vanocker Creek, just upstream of DM&E railroad | *3540
|  |  | Just downstream of Pineview Drive | *3590
* National Geodetic Vertical Datum.
+ North American Vertical Datum.
# Depth in feet above ground.
ADDRESSES
City of Sturgis
Maps are available for inspection at 1040 Second Street, Suite 102, Sturgis, SD 57785.
Village of Maple Bluff, Wisconsin
FEMA Docket No.: B-7790
Wisconsin | Village of Maple Bluff | Lake Mendota | Entire Shoreline | +853
* National Geodetic Vertical Datum.
+ North American Vertical Datum.
# Depth in feet above ground.
ADDRESSES
Village of Maple Bluff
Maps are available for inspection at 18 Oxford Place, Madison, WI 53704.

Flooding source(s) | Location of referenced elevation | *Elevation in feet(NGVD) +Elevation in feet(NAVD) #Depth in feet above ground Modified | Communities affected
Tulare County, California, and Incorporated Areas
FEMA Docket No.: B-7763
Kaweah River | At Mill Creek/Packwood Creek Split | +363 | Unincorporated Areas of Tulare County.
| At downstream side of Southern Pacific Railroad | +390
Shallow Flooding (extensive area covering 19 map panels) | Approximately 1,000 feet southeast of intersection of State Highway 99 and Goshen Avenue | +282 | Unincorporated Areas of Tulare County, City of Farmersville, City of Visalia.
| Approximately 350 feet southwest of intersection of Lort Drive and Railroad | +391
St. Johns River | Approximately 0.5 mile upstream of Avenue 328 Bridge | +317 | Unincorporated Areas of Tulare County, City of Visalia.
| Approximately 220 feet downstream of Southern Pacific Railroad | +378
* National Geodetic Vertical Datum.
+ North American Vertical Datum.
# Depth in feet above ground.
ADDRESSES
City of Farmersville
Maps are available for inspection at Farmersville City Hall, 909 West Visalia Road, Farmersville, CA.
City of Visalia
Maps are available for inspection at Visalia City Hall East, 315 East Acequia, Visalia, CA.
Unincorporated Areas of Tulare County
Maps are available for inspection at Tulare County Resource Management Agency, 5961 South Mooney Boulevard, Visalia, CA.
Crawford County, Kansas, and Incorporated Areas
FEMA Docket No.: 7770
Cow Creek | Approximately 0.34 mile downstream of South Broadway | +878 | Unincorporated Areas of Crawford County, City of Pittsburg.
| Confluence of Second Cow Creek | +891
East Fork of Taylor Branch | Approximately 0.35 mile downstream of East 4th Street | +899 | Unincorporated Areas of Crawford County, City of Pittsburg.
| At East Atkinson Avenue | +930
First Cow Creek | Confluence with Second Cow Creek | +891 | Unincorporated Areas of Crawford County, City of Pittsburg.
| Approximately 53 feet upstream of West 20th Street | +908
Taylor Branch | Confluence with East Fork Taylor Branch | +897 | City of Pittsburg.
| Approximately 0.36 mile upstream of East 10th Street | +934
* National Geodetic Vertical Datum.
+ North American Vertical Datum.
# Depth in feet above ground.
ADDRESSES
City of Pittsburg
Maps are available for inspection at 201 West 4th Street, Pittsburg, KS 66762.
Unincorporated Areas of Crawford County
Maps are available for inspection at 111 East Forest, Suite M, Girard, KS 66743.
Daviess County, Kentucky, and Incorporated Areas
FEMA Docket No.: B-7748
Gilles Ditch | Just upstream Audubon Parkway | +399 | City of Owensboro, Unincorporated Areas of Daviess County.
| Approximately 2600 feet upstream U.S. 60 | +415
Goetz Ditch | Approximately 100 feet upstream South Griffith Avenue | +397 | City of Owensboro, Unincorporated Areas of Daviess County.
| Approximately 150 feet downstream South Griffith Avenue | +397
Horse Fork | Approximately 1500 feet upstream Wendell Ford Expressway. | +394 | City of Owensboro, Unincorporated Areas of Daviess County.
| Approximately 120 feet downstream of KY-54 | +418
Ohio River | At the western county boundary (Approximately 11000 feet downstream Crane Pond Slough) | +383 | City of Owensboro, Unincorporated Areas of Daviess County.
| At confluence with Blackford Creek | +393
Persimmon Ditch | Just upstream Ewing Road | +389 | City of Owensboro, Unincorporated Areas of Daviess County.
| Just downstream U.S. 60 | +401
Scherm Ditch | Just upstream Lewis Lane | +399 | City of Owensboro, Unincorporated Areas of Daviess County.
| Approximately 1100 feet upstream South Griffith Avenue | +400
Yellow Creek | Just upstream KY-144 | +392 | City of Owensboro, Unincorporated Areas of Daviess County.
| Approximately 520 feet upstream Wendell Ford Expressway | +408
* National Geodetic Vertical Datum.
+ North American Vertical Datum.
# Depth in feet above ground.
ADDRESSES
City of Owensboro
Maps are available for inspection at PO Box 732, 200 East 3rd Street, Owensboro, KY 42302-0732.
Unincorporated Areas of Daviess County
Maps are available for inspection at PO Box 732, 200 East 3rd Street, Owensboro, KY 42302-0732.
Lea County, New Mexico, and Incorporated Areas
FEMA Docket No.: B-7790
Main Street Ditch | Approximately 270 feet downstream of S. Industrial Rd. | +3887 | Unincorporated Areas of Lea County.
| Approximately 2050 feet upstream of S. Industrial Road | +3893
Railroad Ditch | Intersection of S. Main Street and E. Gilmore Road | +3880 | Unincorporated Areas of Lea County.
| Intersection of R Avenue and 9th Street | +3911
Stream 2 | Intersection with Dal Paso Street | +3637 | Unincorporated Areas of Lea County.
| Approximately 2650 feet upstream of Dal Paso St. (City of Hobbs limits) | +3643
Stream 3 | Intersection with N. Dal Paso St. | +3655 | Unincorporated Areas of Lea County.
| Approximately 2850 feet upstream of N. Rolling Meadows Dr. | +3674
* National Geodetic Vertical Datum.
+ North American Vertical Datum.
# Depth in feet above ground.
ADDRESSES
Unincorporated Areas of Lea County
Maps are available for inspection at 100 North Main, Lovington, NM 88260.
Waukesha County, Wisconsin, and Incorporated Areas
FEMA Docket No.: B-7790
Lake Nagawicka | Entire Shoreline | *893 | Village of Nashotah.
North Lake | Entire Shoreline | *900 | Village of Chenequa.
* National Geodetic Vertical Datum.
+ North American Vertical Datum.
# Depth in feet above ground.
ADDRESSES
Village of Chenequa
Maps are available for inspection at 31275 W. Hwy K, Chenequa, WI 53029.
Village of Nashotah
Maps are available for inspection at N44 W32950 Watertown Plank Rd, Nashotah, WI 53058-0123.

(Catalog of Federal Domestic Assistance No. 97.022, “Flood Insurance.”)

Dated: October 24, 2008.
Michael K. Buckley,
Acting Assistant Administrator, Mitigation Directorate, Department of Homeland Security, Federal Emergency Management Agency.

[FR Doc. E8-26293 Filed 11-4-08; 8:45 am]

BILLING CODE 9110-12-P